OFFICE OF THE UNITED STATES TRADE REPRESENTATIVE

Generalized System of Preferences (GSP): Import Statistics Relating to Competitive Need Limitations; Invitation for Public Comment on Possible De Minimis Waivers and Redesignations

AGENCY: Office of the United States Trade Representative.

ACTION: Notice.

SUMMARY: This notice is to inform the public of full year 2004 import statistics relating to competitive need limitations (CNLs) under the Generalized System of Preferences (GSP) program. Public comments are invited by 5 p.m., April 22, 2005, regarding possible de minimis CNL waivers with respect to particular articles, and possible redesignations under the FSP program of articles currently not eligible for GSP benefits because they previously exceeded the CNLs.

FOR FURTHER INFORMATION CONTACT: Contact the GSP Subcommittee of the Trade Policy Staff Committee, Office of the United States Trade Representative, 1724 F Street, NW., Room F-220, Washington, DC 20508. The telephone number is (202) 395-6971.

SUPPLEMENTARY INFORMATION:

I. Competitive Need Limitations

The GSP program provides for the duty-free importation of designated articles when imported from designated beneficiary developing countries (BDCs). The GSP program is authorized by title V of the Trade Act of 1974 (19 U.S.C. 2461, et seq.), as amended (the “1974 Act”), and is implemented in accordance with Executive Order 11888 of November 24, 1975, as modified by subsequent Executive Orders and Presidential Proclamations.

Section 503(c)(2)(A) of the 1974 Act sets out the two competitive need limitations (CNLs). When the President determines that a BDC exported to the United States during a calendar year either (1) a quantity of a GSP-eligible article having a value in excess of the applicable amount for that year ($115 million for 2004), or (2) a quantity of a GSP-eligible article having a value equal to or greater than 50 percent of the value of total U.S. imports of the article from all countries (the “50 percent CNL”), the President must terminate GSP duty-free treatment for that article from that BDC by no later than July 1 of the next calendar year.

Under section 503(c)(2)(F) of the 1974 Act, the President may waive the 50 percent CNL with respect to an eligible article imported from a BDC if the value of total imports of that article from all countries during the calendar year did not exceed the applicable de minimis amount for that year ($17 million for 2004).

Under section 503(c)(2)(C) of the 1974 Act, if imports of an eligible article from a BDC ceased to receive duty-free treatment due to exceeding a CNL in a prior year, the President may redesignate such an article for duty-free treatment if imports in the most recently completed calendar year did not exceed the CNLs.

II. Implementation of Competitive Need Limitations, Waivers, and Redesignations

Exclusions from GSP duty-free treatment where CNLs have been exceeded will be effective July 1, 2005, unless granted a waiver by the President. CNL exclusions, as well as decisions with respect to de minimis waivers and redesignations, will be based on full 2004 calendar year import statistics.

III. 2004 Import Statistics

In order to provide notice of articles that have exceeded the CNLs for 2004, and to afford an opportunity for comment regarding potential de minimis waivers and redesignations, import statistics for 2004 are included with this notice. Full calendar year 2004 data for individual tariff subheadings may be viewed on the Web site of the U.S. International Trade Commission at http://dataweb.usitc.gov/.

The following lists contain, for each article, the Harmonized Tariff Schedule of the United States (HTSUS) subheading and BDC country of origin, the value of imports of the article for calendar year 2004, and the percentage of total imports of that article from all countries. The flags indicate the status of GSP eligibility. Articles marked with an “*” are those that have been excluded from GSP eligibility for the entire past calendar year. Articles marked with a “D” are those that, based on 2004 data, may be eligible for a de minimus waiver of the 50 percent CNL.

List I shows GSP-eligible articles from BDCs that exceeded the CNL by having been exported in excess of $115 million, or by an amount greater than 50% of the total U.S. import value in 2004. Those articles without a flag were GSP-eligible during 2004 but stand to lose GSP duty-free treatment on July 1, 2005, unless a waiver is granted. Such waivers are required to have been previously requested in the 2004 GSP Annual Review.

List II is a subset of List I. List II identifies GSP-eligible articles from BDCs that are above the 50 percent CNL, but that are eligible for a de minimis waiver of the 50 percent CNL. Each year, de minimis waivers are considered automatically without a petition, and public comments are invited.

List III shows GSP-eligible articles from certain BDCs that are currently not receiving GSP duty-free treatment, but that may be considered for redesignation based on 2004 trade data. Recommendations to the President on redesignations are normally made with any recommendations resulting from the annual review, and public comments are invited.

The attached lists are computer-generated and may not include all articles to which the GSP CNLs may apply. All determinations and decisions regarding the CNLs of the GSP program are based on full calendar year 2004 import data with respect to each GSP-eligible article. Each interested party is advised to conduct its own review of 2004 import data with regard to the possible application of GSP CNLs.

IV. Public Comments

Requirements for Submissions

All submissions must conform to the GSP regulations set forth at 15 CFR part 2007, except as modified below. Furthermore, each party providing comments should indicate on the first page of the submission its name, the relevant HTSUS subheading(s), the BDC of interest, and the type of action (e.g., de minimis waiver or redesignation) in which the party is interested.

Comments must be submitted, in English, to the Chairman of the GSP Subcommittee of the Trade Policy Staff Committee (TPSC) as soon as possible, but no later than 5 p.m., April 22, 2005. Comments submitted after this date may be considered at the discretion of the GSP Subcommittee until the time its advice is provided to the TPSC.

In order to facilitate prompt consideration of submissions, USTR strongly urges and prefers electronic e-mail submissions in response to this notice. Hand-delivered submissions will not be accepted. Submissions should be single-copy transmissions in English with the total submission not to exceed 50 single-spaced standard letter-size pages and 3 megabytes as a digital file attached to an e-mail transmission. The e-mail transmission should use the following subject line: “Comments on 2004 CNL Review,” followed by the HTSUS subheading number and BDC country of origin as set out in the appropriate list. Documents must be submitted as either WordPerfect (“.wpd”), MSWord (“.doc”), or text (“.txt”) files. Documents submitted as electronic image files or containing imbedded images (for example, “.jpg”, “.pdf”, “.bmp”, or “.gif” files) will not be accepted. Spreadsheets submitted as supporting documentation are acceptable as QuattroPro or Excel, pre-formatted for printing on 8½ x 11 inch paper. To the extent possible, any data attachments to the submission should be included in the same file as the submission itself, and not as separate files.

Submissions in response to this notice will be subject to public inspection by appointment with the staff of the USTR Public Reading Room, except for information granted “business confidential” status pursuant to 15 CFR 2003.6.

If the submission contains business confidential information, a non-confidential version of the submission must also be submitted that indicates where confidential information was redacted by inserting asterisks where material was deleted. In addition, the confidential version must be clearly marked “BUSINESS CONFIDENTIAL” at the top and bottom of each page of the document. The non-confidential version must be clearly marked “PUBLIC” or “NON-CONFIDENTIAL” at the top and bottom of each page. Documents that are submitted without any marking might not be accepted or will be considered public documents.

For any document containing business confidential information submitted as an electronic attached file to an e-mail transmission, the file name of the business confidential version should begin with the characters “BC-”, and the file name of the public version should begin with the character “P-”. The “BC-” or “P-” should be followed by the name of the party (government, company, union, association, etc.) which is submitting the comments.

E-mail submissions should not include separate cover letters or messages in the message area of the e-mail; information that might appear in any cover letter should be included directly in the attached file containing the submission itself, including the sender's identifying information with telephone number, FAX number, and e-mail address. The e-mail address for these submissions is FR0441@USTR.GOV. Documents not submitted in accordance with these instructions might not be considered in this review. If unable to provide submissions by e-mail, please contact the GSP Subcommittee to arrange for an alternative method of transmission.

Public version of all documents relating to this review will be available for public review approximately two weeks after the due date by appointment in the USTR Public Reading Room, 1724 F Street, NW., Washington, DC. Availability of documents may be ascertained, and appointments may be made from 9:30 a.m. to noon and 1 p.m. to 4 p.m., Monday through Friday, by calling 202-395-6186.

Jon Rosenbaum,
Acting Executive Director for GSP, GSP Subcommittee of the Trade Policy Staff Committee.

BILLING CODE 3190-W5-M

[FR Doc. 05-6144 Filed 3-28-05; 8:45 am]

BILLING CODE 3190-W5-C